DEPARTMENT OF COMMERCE

National Oceanic and Atmospheric Administration

[RTID 0648-XD728]

North Pacific Fishery Management Council; Public Meeting

AGENCY: National Marine Fisheries Service (NMFS), National Oceanic and Atmospheric Administration (NOAA), Commerce.

ACTION: Notice of hybrid meeting.

SUMMARY: The North Pacific Fishery Management Council (Council) Scallop Plan Team will meet in Alaska.

DATES: The meeting will be held on Tuesday, March 5, 2024, from 9 a.m. to 5 p.m., AK time.

ADDRESSES: The meeting will be a hybrid meeting. Attend in person in the Chiniak room at the Kodiak Fish and Game office, 351 Research Court, Kodiak, AK 99615, or join online through the link at https://meetings.npfmc.org/Meeting/Details/3035.

Council address: North Pacific Fishery Management Council, 1007 W 3rd Ave., Ste. 400, Anchorage, AK 99501-2252; telephone: (907) 271-2809. Instructions for attending the meeting via video conference are given under SUPPLEMENTARY INFORMATION, below.

FOR FURTHER INFORMATION CONTACT: Sarah Rheinsmith, Council staff; phone: (907) 271-2809; email: sarah.rheinsmith@noaa.gov. For technical support, please contact our admin Council staff, email: npfmc.admin@noaa.gov.

SUPPLEMENTARY INFORMATION:

Agenda

Tuesday, March 5, 2024

The agenda will include: (a) 2023 state dredge survey results; (b) statewide fishery performance; (c) research updates; (d) Scallop FMP amendments; (e) stock status, OFL and ABC determination; (f) socioeconomic considerations; (g) status of assessment development; and (h) other business. The agenda is subject to change, and the latest version will be posted at https://meetings.npfmc.org/Meeting/Details/3035 prior to the meeting, along with meeting materials.

Connection Information

You can attend the meeting online using a computer, tablet, or smart phone, or by phone only. Connection information will be posted online at: https://meetings.npfmc.org/Meeting/Details/3035.

Public Comment

Public comment letters will be accepted and should be submitted electronically to https://meetings.npfmc.org/Meeting/Details/3035.

Authority: 16 U.S.C. 1801 et seq.

Dated: February 12, 2024.
Rey Israel Marquez,
Acting Deputy Director, Office of Sustainable Fisheries, National Marine Fisheries Service.

[FR Doc. 2024-03202 Filed 2-14-24; 8:45 am]

BILLING CODE 3510-22-P